DEPARTMENT OF ENERGY

Federal Energy Regulatory Commission

Combined Notice of Filings #1

March 19, 2008.

Take notice that the Commission received the following electric corporate filings:

Docket Numbers: EC08-53-000.

Applicants: Chandler Wind Partners, LLC.

Description: Terra-Gen Power LLC submits an application for authorization for indirect disposition of jurisdictional facilities etc.

Filed Date: 03/14/2008.

Accession Number: 20080318-0050.

Comment Date: 5 p.m. Eastern Time on Friday, April 4, 2008.

Take notice that the Commission received the following electric rate filings:

Docket Numbers: ER96-25-031; ER01-1363-009.

Applicants: Coral Power, L.L.C.; Coral Energy Management, LLC.

Description: Coral Power LLC and Coral Energy Management, LLC submit a second supplement to the 12/3/07 Notice of Change in Status.

Filed Date: 03/13/2008.

Accession Number: 20080317-0130.

Comment Date: 5 p.m. Eastern Time on Thursday, April 3, 2008.

Docket Numbers: ER99-3151-009; ER97-837-008; ER03-327-003; ER08-447-001; ER08-448-001; PSEG Nuclear LLC.

Applicants: PSEG Energy Resources & Trade LLC; Public Service Electric and Gas Company; PSEG Power Connecticut LLC; PSEG Fossil LLC.

Description: Amendment to Application of PSEG Energy Resources & Trade LLC, et al.

Filed Date: 03/13/2008.

Accession Number: 20080313-5142.

Comment Date: 5 p.m. Eastern Time on Thursday, April 3, 2008.

Docket Numbers: ER01-205-025; ER98-2640-023; ER98-4590-021; ER99-1610-029.

Applicants: Xcel Energy Services Inc.; Northern States Power Company; Public Service Company of Colorado; New Century Pub Svc Co. of Co.

Description: Southwestern Public Service Company submits a change in status report relating to their market-based rate authority.

Filed Date: 03/17/2008.

Accession Number: 20080319-0044.

Comment Date: 5 p.m. Eastern Time on Monday, April 7, 2008.

Docket Numbers: ER08-670-000.

Applicants: Illinois Power Co.

Description: Illinois Power Company and Ameren Illinois Transmission Company submits a revised Exhibit A to the Joint Ownership Agreement between AmerenIP and Ameren Transco, which the Commission accepted for filing on 9/17/07.

Filed Date: 03/14/2008.

Accession Number: 20080318-0008.

Comment Date: 5 p.m. Eastern Time on Friday, April 4, 2008.

Docket Numbers: ER08-671-000.

Applicants: Florida Power Corporation.

Description: Florida Power Corp. submits long-term Service Agreement between Progress Energy Florida, Inc and the City of Gainesville, Florida under PEF's Cost-Based Rates Tariff (CR-1), FERC Electric Tariff, Second Revised Volume 9.

Filed Date: 03/14/2008.

Accession Number: 20080318-0009.

Comment Date: 5 p.m. Eastern Time on Friday, April 4, 2008.

Docket Numbers: ER08-672-000.

Applicants: Entergy Services, Inc.

Description: Entergy Arkansas, Inc. submits the Thirty-Eighth Amendment to the Power Coordination, Interchange and Transmission Service Agreement between EAI and Arkansas Electric Cooperative Corporation dated March 7, 2008.

Filed Date: 03/14/2008.

Accession Number: 20080318-0010.

Comment Date: 5 p.m. Eastern Time on Friday, April 4, 2008.

Docket Numbers: ER08-673-000.

Applicants: Entergy Services, Inc.

Description: Entergy Services, Inc. on behalf of Entergy Operating Companies submits an executed Third Revised Network Integration Transmission Service Agreement with Cleco Power LLC.

Filed Date: 03/14/2008.

Accession Number: 20080318-0011.

Comment Date: 5 p.m. Eastern Time on Friday, April 4, 2008.

Docket Numbers: ER08-674-000.

Applicants: Southern California Edison Company.

Description: Southern California Edison Company submits the Title, Transfer, Assignment and Assumption Agreement with Dillon Wind LLC.

Filed Date: 03/17/2008.

Accession Number: 20080318-0012.

Comment Date: 5 p.m. Eastern Time on Monday, April 7, 2008.

Docket Numbers: ER08-675-000.

Applicants: Orange and Rockland Utilities, Inc.

Description: Orange and Rockland Utilities, Inc. submits an amendment to its OATT FERC Electric Tariff, Original Volume 3 to be made effective 4/1/08.

Filed Date: 03/17/2008.

Accession Number: 20080318-0013.

Comment Date: 5 p.m. Eastern Time on Monday, April 7, 2008.

Docket Numbers: ER08-677-000.

Applicants: Western Kentucky Energy Corp.

Description: Western Kentucky Energy Corp. submits notices of cancellation of Rate Schedule 2, FERC Electric Tariff, Original Volume 2, Original Service Agreement 1 et al.

Filed Date: 03/14/2008.

Accession Number: 20080318-0017.

Comment Date: 5 p.m. Eastern Time on Friday, April 4, 2008.

Docket Numbers: ER08-678-000.

Applicants: LG&E Energy Marketing Inc.

Description: LG&E Energy Marketing Inc. submits a Generation Dispatch Support Services Agreement with Big Rivers Electric Corporation.

Filed Date: 03/14/2008.

Accession Number: 20080318-0018.

Comment Date: 5 p.m. Eastern Time on Friday, April 4, 2008.

Docket Numbers: ER08-679-000.

Applicants: Tallgrass Energy Partners.

Description: Tallgrass Energy Partners submits the FERC Electric Tariff, Original Volume 1.

Filed Date: 03/17/2008.

Accession Number: 20080318-0019.

Comment Date: 5 p.m. Eastern Time on Monday, April 7, 2008.

Docket Numbers: ER08-681-000.

Applicants: Maine Public Service Company.

Description: Maine Public Service Company submits informational filing setting forth the changed loss factor effective 3/1/08 together with back-up materials.

Filed Date: 03/17/2008.

Accession Number: 20080319-0047.

Comment Date: 5 p.m. Eastern Time on Monday, April 7, 2008.

Take notice that the Commission received the following electric securities filings:

Docket Numbers: ES08-35-000.

Applicants: New York State Electric & Gas Corp.

Description: Application of New York State Electric & Gas Corporation for supplemental authorization to issue securities under section 204 of the FPA.

Filed Date: 03/19/2008.

Accession Number: 20080319-5009.

Comment Date: 5 p.m. Eastern Time on Wednesday, April 9, 2008.

Docket Numbers: ES08-37-000.

Applicants: Rochester Gas & Electric Corporation.

Description: Application of Rochester Gas and Electric Corporation for supplemental authorization to issue securities under section 204 of the FPA.

Filed Date: 03/19/2008.

Accession Number: 20080319-5039.

Comment Date: 5 p.m. Eastern Time on Wednesday, April 9, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-6133 Filed 3-25-08; 8:45 am]

BILLING CODE 6717-01-P